DEPARTMENT OF HEALTH AND HUMAN SERVICES

Health Resources and Services Administration

Advisory Committee on Training in Primary Care Medicine and Dentistry; Notice for Request for Nominations

SUMMARY: The Health Resources and Services Administration (HRSA) is requesting nominations to fill vacancies on the Advisory Committee on Training in Primary Care Medicine and Dentistry (ACTPCMD). ACTPCMD is authorized by Section 749 of the Public Health Service (PHS) Act (42 U.S.C. 293l), as amended. The Advisory Committee is governed by provisions of the Federal Advisory Committee Act (FACA) (5 U.S.C. Appendix 2), as amended, which sets forth standards for the formation and use of advisory committees, and applies to the extent that the provisions of FACA do not conflict with the requirements of PHS Act Section 749.

DATES: The agency will receive nominations on a continuous basis.

ADDRESSES: All nominations should be submitted to Advisory Council Operations, Bureau of Health Workforce, HRSA, 11W45C, 5600 Fishers Lane, Rockville, Maryland 20857. Mail delivery should be addressed to Advisory Council Operations, Bureau of Health Workforce, HRSA, at the above address, or via email to: BHWAdvisoryCouncilFRN@hrsa.gov.

FOR FURTHER INFORMATION CONTACT: Joan Weiss, Ph.D., RN, CRNP, FAAN, Designated Federal Official, ACTPCMD at 301-443-0430 or email at jweiss@hrsa.gov. A copy of the current committee membership, charter, and reports can be obtained by accessing the Web site http://www.hrsa.gov/advisorycommittees/bhpradvisory/actpcmd/.

SUPPLEMENTARY INFORMATION: ACTPCMD provides advice and recommendations to the Secretary of the U.S. Department of Health and Human Services (Secretary) and ranking members of the U.S. Senate Committee on Health, Education, Labor and Pensions, and the U.S. House of Representatives Committee on Energy and Commerce on matters concerning policy, program development, and other matters of significance concerning the activities under Sections 747 and 748, Part C of Title VII of the PHS Act, as amended. Meetings are held twice a year.

Specifically, HRSA is requesting nominations for voting members of ACTPCMD representing: Family medicine, general internal medicine, general pediatrics, physician assistant, general dentistry, pediatric dentistry, public health dentistry, and dental hygiene programs. Among these nominations, residents and/or fellows from these programs are encouraged to apply. In making such appointments, the Secretary will ensure a fair balance between the health professions, a broad geographic of representation of members, and a balance between urban and rural members. Members will be appointed based on their competence, interest, and knowledge of the mission of the profession involved. The Secretary will also ensure the adequate representation of women and minorities.

The Department of Health and Human Services (HHS) will consider nominations of all qualified individuals with the areas of subject matter expertise noted above. Individuals may nominate themselves or other individuals, and professional associations and organizations may nominate one or more qualified persons for membership. Nominations shall state that the nominee is willing to serve as a member of ACTPCMD and appears to have no conflict of interest that would preclude ACTPCMD membership. Potential candidates will be asked to provide detailed information concerning financial interests, consultancies, research grants, and/or contracts that might be affected by recommendations of ACTPCMD to permit evaluation of possible sources of conflicts of interest.

A nomination package should include the following information for each nominee:

(1) A letter of nomination from an employer, a colleague, or a professional organization stating the name, affiliation, and contact information for the nominee, the basis for the nomination (i.e., what specific attributes, perspectives, and/or skills does the individual possess that would benefit the workings of ACTPCMD, and the nominee's field(s) of expertise);

(2) A letter of self-interest stating the reasons the nominee would like to serve on ACTPCMD;

(3) A biographical sketch of the nominee and a copy of his/her curriculum vitae; and

(4) The name, address, daytime telephone number, and email address at which the nominator can be contacted.

Nominations will be considered as vacancies occur on ACTPCMD. Nominations should be updated and resubmitted every 3 years to continue to be considered for committee vacancies.

HHS strives to ensure that the membership of HHS federal advisory committees is balanced in terms of points of view represented and the committee's function. The Department encourages nominations of qualified candidates from all groups and locations. Appointment to ACTPCMD shall be made without discrimination on the basis of age, race, ethnicity, gender, sexual orientation, disability, and cultural, religious, or socioeconomic status.

Jason E. Bennett,
Director, Division of the Executive Secretariat.

[FR Doc. 2016-17109 Filed 7-19-16; 8:45 am]

BILLING CODE 4165-15-P